DEPARTMENT OF LABOR

Employment and Training Administration

[TA-W-62,191]

Kurdziel Iron of Rothbury, Inc., Currently Known as Carlton Creek Ironworks, LLC, Including On-Site Leased Workers of Employment Giant Formerly Known as Select Employment, Rothbury, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on November 1, 2007, applicable to workers of Kurdziel Iron of Rothbury, Inc., including on-site leased workers of Employment Giant, formerly known as Select Employment, Rothbury, Michigan. The notice was published in the Federal Register on November 15, 2007 (72 FR 64246).

At the request of the State agency, the Department reviewed the certification for workers of the subject firm. The workers are engaged in the production of iron foundry counterweights and machine bases.

New information shows that on July 11, 2008, Monomoy Capital Partners purchased the assets of Kurdziel Iron of Rothbury, Inc. and is currently known as Carlton Creek Ironworks, LLC, Rothbury, Michigan. Workers wages at the subject firm are being reported under the Unemployment Insurance (UI) tax account for Carlton Creek Ironworks, LLC.

Accordingly, the Department is amending this certification to include workers of the subject firm whose UI wages are reported under the successor firm, Carlton Creek Ironworks, LLC, Rothbury, Michigan.

The amended notice applicable to TA-W-62,191 is hereby issued as follows:

All workers of Kurdziel Iron of Rothbury, Inc., currently known as Carlton Creek Ironworks, LLC, including on-site leased workers from Employment Giant, formerly known as Select Employment, Rothbury, Michigan, who became totally or partially separated from employment on or after September 20, 2006, through November 1, 2009, are eligible to apply for adjustment assistance under Section 223 of the Trade Act of 1974, and are also eligible to apply for alternative trade adjustment assistance under Section 246 of the Trade Act of 1974.

Signed at Washington, DC this 25th day of August 2008.
Linda G. Poole,
Certifying Officer, Division of Trade Adjustment Assistance.

[FR Doc. E8-20345 Filed 9-2-08; 8:45 am]

BILLING CODE 4510-FN-P